SMALL BUSINESS ADMINISTRATION

[Declaration of Disaster #P016]

State of New Hampshire

As a result of the President's major disaster declaration for Public Assistance on September 12, 2003 the U.S. Small Business Administration is activating its disaster loan program only for private non-profit organizations that provide essential services of a governmental nature. I find that Cheshire and Sullivan Counties in the State of New Hampshire constitute a disaster area due to damages caused by severe storms and flooding occurring on July 21, 2003 and continuing through August 18, 2003. Applications for loans for physical damage as a result of this disaster may be filed until the close of business on November 12, 2003 at the address listed below or other locally announced locations: U.S. Small Business Administration, Disaster Area 1 Office, 360 Rainbow Blvd., South, 3rd Floor, Niagara Falls, NY 14303.

The interest rates are:

| Percent
For Physical Damage:
Non-Profit Organizations Without Credit Available Elsewhere | 2.953
Non-Profit Organizations With Credit Available Elsewhere | 5.500

The number assigned to this disaster for physical damage is P01611.

(Catalog of Federal Domestic Assistance Program Nos. 59008).
Dated: September 15, 2003.
Herbert L. Mitchell,
Associate Administrator for Disaster Assistance.

[FR Doc. 03-23978 Filed 9-18-03; 8:45 am]

BILLING CODE 8025-01-P